DEPARTMENT OF HEALTH AND HUMAN SERVICES

Centers for Disease Control and Prevention

Advisory Council for the Elimination of Tuberculosis (ACET)

AGENCY: Centers for Disease Control and Prevention (CDC), Department of Health and Human Services (HHS).

ACTION: Notice of meeting.

SUMMARY: In accordance with regulatory provisions, the Centers for Disease Control and Prevention (CDC) announces the following meeting of the Advisory Council for the Elimination of Tuberculosis Meeting (ACET). This meeting is open to the public, limited only by the number of audio and web conference lines (1,000 audio and web conference lines are available). Time will be available for the public.

DATES: The meeting will be held on December 12, 2023, from 9:30 a.m. to 4:30 p.m., EST, and December 13, 2023, from 10 a.m. to 12 p.m., EST.

Written comments must be submitted by December 5, 2023. Registration to make oral comments must be submitted by December 5, 2023.

ADDRESSES: The telephone access number is 1-669-254-5252, Webinar ID: Webinar ID: 160 466 2283, and the Passcode is 07266459. The web conference access is https://cdc.zoomgov.com/j/1604662283?pwd=czhoNzVrb1BYTHV0bzc0R1hFSml0UT09 Passcode: Xu0wFVH*. The number of available audio and web conference lines is 1,000.

FOR FURTHER INFORMATION CONTACT: Marah Condit, MS, Committee Management Lead, Office of Policy, Planning, and Partnerships, National Center for HIV, Viral Hepatitis, STD, and TB Prevention, Centers for Disease Control and Prevention, 1600 Clifton Road NE, Mailstop H24-6, Atlanta, GA 30329-4027, Telephone: (404) 639-3423; Email: nchhstppolicy@cdc.gov.

SUPPLEMENTARY INFORMATION:

Purpose: The Advisory Council for the Elimination of Tuberculosis (ACET) advises and makes recommendations regarding the elimination of tuberculosis (TB) to the Secretary of Health and Human Services, the Assistant Secretary for Health, and the Director, Centers for Disease Control and Prevention (CDC). Specifically, the Council makes recommendations regarding policies, strategies, objectives, and priorities; addresses the development and application of new technologies; provides guidance and review of CDC's Tuberculosis Prevention Research portfolio and program priorities; and reviews the extent to which progress has been made toward eliminating TB.

Matters to be Considered: The agenda will include discussions on: (1) data modernization initiative: DTBE priorities and activities; (2) NCHHSTP dataset and standardized variables; (3) TB Elimination Alliance: Community Engagement; and (4) updates from the American Thoracic Society; CDC; the Infectious Disease Society of America, and the European Respiratory Society on treatment guidelines. Agenda items are subject to change as priorities dictate.

Public Participation

Written Public Comment: Members of the public are welcome to submit written comments in advance of the meeting. Written comments must be submitted by emailing nchhstppolicy@cdc.gov with the subject line “ACET December 2023 Public Comment Registration” by December 5, 2023.

Oral Public Comment: Individuals who would like to make an oral comment during the public comment period must register by emailing nchhstppolicy@cdc.gov with subject line “ACET December 2023 Public Comment Registration” by December 5, 2023. The public comment period is on December 13, 2023, at 10:15 a.m., EST.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-22311 Filed 10-5-23; 8:45 am]

BILLING CODE 4163-18-P